CONSUMER PRODUCT SAFETY COMMISSION

Notice of Meeting of Chronic Hazard Advisory Panel on Diisononyl Phthalate (DINP)

AGENCY: Consumer Product Safety Commission.

ACTION: Notice of meeting.

SUMMARY: The Commission announces the first meeting of the Chronic Hazard Advisory Panel (CHAP) on diisononyl phthalate (DINP). The Commission appointed this CHAP to advise the Commission on any chronic hazards of cancer, birth defects, and gene mutations associated with children's products containing DINP.

DATES: The meeting will be held from 8:30 am to 5:00 pm on May 10 and from 8:30 am to 4:00 pm on May 11, 2000.

ADDRESSES: The meeting will be held in the fourth floor hearing room in the Commission's offices at 4330 East-West Highway, Bethesda, Maryland.

FOR FURTHER INFORMATION CONTACT: Marilyn Wind, Directorate for Health Sciences, Consumer Product Safety Commission, Washington, DC 20207; telephone (301) 504-0477, ext. 1205; email.

SUPPLEMENTARY INFORMATION: The Commission has been concerned with potential risks posed to children under 3 years of age by the plasticizer diisononyl phthalate (DINP), which is used to soften some children's teethers, rattles, and toys made from polyvinyl chloride (PVC). DINP can leach from such products when they are mouthed by children, causing some DINP to be ingested. DINP has been shown to cause liver and other organ toxicity in laboratory animals. The Commission has also received a petition (No. HP 99-1) from the National Environmental Trust and eleven other organizations asking that the Commission ban PVC in children's products.

The Commission appointed a seven-member CHAP to evaluate the existing scientific information regarding the mechanism by which DINP may cause cancer and the implications of this on the potential cancer risk to children. The CHAP members were selected from scientists recommended by the National Academy of Sciences. See 15 U.S.C. 2077, 2030(b).

The first meeting of the CHAP on DINP will be held on May 10 and 11, 2000, in the fourth floor hearing room at the Commission's offices at 4330 East-West Highway, Bethesda, Maryland. The meeting will begin at 8:30 am both days and is scheduled to end at 5:00 pm on May 10 and 4:00 pm on May 11.

The meeting is open to the public, space permitting, but no opportunity for public participation in the meeting is scheduled. Such participation shall be permitted only in the discretion of the Chairman of the CHAP. There will be an opportunity in connection with the second meeting of the CHAP for presentation of oral and written data and views (date to be announced).

At the first CHAP meeting, the CHAP will choose its Chair and Vice Chair and the CPSC staff will present information on the history of the DINP project, the provisions of the Federal Hazardous Substances Act, the CPSC's Chronic Hazard Guidelines, the CPSC staff's toxicity review and risk assessment for DINP, and other work in progress on DINP. During the remainder of the meeting, the CHAP will consider how it will proceed and begin its deliberations.

Dated: April 20, 2000.
Sayde E. Dunn,
Secretary, Consumer Product Safety Commission.

[FR Doc. 00-10318 Filed 4-25-00; 8:45 am]

BILLING CODE 6355-01-P